DEPARTMENT OF LABOR

Occupational Safety and Health Administration

Changes to State Plans: Approval of Oregon State Standards

AGENCY: Occupational Safety and Health Administration (OSHA), Labor.

ACTION: Notice of approval of Oregon State standards.

SUMMARY: The Occupational Safety and Health Administration (OSHA) is approving amendments to 18 standards promulgated by the Oregon Department of Consumer and Business Services pursuant to its OSHA-approved State Plan. These amendments differ from the equivalent Federal standards amendments but have been determined to be “at least as effective”; no concerns or objections have been brought to OSHA's attention regarding them.

EFFECTIVE DATE: March 1, 2004.

FOR FURTHER INFORMATION CONTACT: Barbara Bryant, Director, Office of State Programs, Directorate of Cooperative and State Programs, Occupational Safety and Health Administration, Room N-3700, 200 Constitution Avenue, NW., Washington, DC 20210, telephone (202) 693-2244. You may access Oregon's standards on-line, using the Oregon standards references noted below, by going to www.osha.gov/fso/osp/index.html and selecting “Oregon.” You will be directed to Oregon OSHA's Web site.

SUPPLEMENTARY INFORMATION:

I. Introduction

A. Background

Part 1953 of title 29, Code of Federal Regulations, prescribes procedures under section 18 of the Occupational Safety and Health Act of 1970 (hereinafter called the Act) by which the Occupational Safety and Health Administration will review and approve standards promulgated pursuant to a State plan which has been approved in accordance with section 18(c) of the Act and 29 CFR part 1902. On December 28, 1972, notice was published in the Federal Register (37 FR 28628) of the approval of the Oregon plan and the adoption of subpart D to part 1952 containing the decision and a description of the State's plan. Section 1953.4(b)(1) provides that when a significant change in the Federal program would have an adverse impact on the “at least as effective” status of the State program if a parallel State program modification were not made, State adoption of a change in response to the Federal program change shall be required. The Oregon plan provides for adoption of State standards which are at least as effective as comparable Federal standards promulgated under section 6 of the Act. The Oregon plan also provides for the adoption of Federal standards as State standards by reference. Oregon's standards, whether identical to the Federal or different, are adopted pursuant to State law (ORS 654.025(2), ORS 656.726(3) and ORS 183.335). OSHA has reviewed and determined that amendments to the following Oregon standards, while not identical to the Federal, are “at least as effective” as required by section 1953.5(a) and have not been the subject of any complaints, objections, or controversy brought to OSHA's attention with regard to their effectiveness or burden on interstate commerce (section 1953.6(c)).

B. Standards Approved

1. Air Contaminants

In response to revision of the Federal Air Contaminants standard for general industry, 29 CFR 1910.1000, as published in the Federal Register (58 FR 35338) on June 30, 1993, with corrections on July 27, 1993 (58 FR 40191), and August 4, 1997 (62 FR 42018), Oregon adopted comparable changes as well as State-initiated changes to its Air Contaminants standards in Division 2/Z, General OSH Rules (OAR 437-002-0382); Division 3/Z, Construction (OAR 437-003-1000); and Division 4/Z, Agriculture (OAR 437-004-9000) between November 1993 and September 2001 under OR-OSHA Administrative Orders 17-1993, 5-1997, 6-1997, 4-2001 and 9-2001. (When a 1992 court decision required Federal OSHA to vacate its 1989 air contaminants standard, Oregon re-adopted its old air contaminants rules instead of OSHA's pre-1989 standard. When Federal OSHA adopted a revised standard in 1993, Oregon adopted some of the Federal changes but retained a number of its State-initiated provisions.) The State air contaminants standards for general industry and construction contain Permissible Exposure Limits (PELs) for 70 chemicals for which OSHA does not have a PEL, lower PELs for 13, and additional ceiling limits or shorter duration levels for two chemicals. Oregon's air contaminants standard for agriculture contains a shorter list of chemicals, though with the same PELs. (See Table 1.)

Table 1: Oregon Air Contaminants: Differences From Federal
Industries covered: includes Construction as well as General Industry, plus a shorter list of chemicals for Agriculture. (Federal OSHA covers only General Industry.)
Added PEL: Abate, Acetylene, Allyl Glycidyl Ether (AGE), Alundum, Asphalt, Boron Tribromide, Butane, Butyl Lactate, Calcium Arsenate, Caprolactam, Corundum, Cyanogen, Dibrom, 2-N-Dibutylaminoethanol, Dichloroacetylene, Dichloroethyl Ether, Dicyclohexylmethane Diisocyanate, Dicyclohexylmethane 4,4-Diisocyanate, Diethylene Triamine, Diisobutyl Ketone, Dinitrobenzene, Diphenylene, Diisocyanate, Diphenylamine, Diquat, Ethane, Ethyl Mercaptan, Ethylene, Ethylene Glycol Particulate, Ethylene Glycol, Germanium Tetrahydride, Hexachlorocyclopentadiene, Hexafluoracetone, Hexamethylene Diisocyanate, 1,6 Hexamethylene Diisocyanate Based Adduct, 1,6 Hexamethylene Diisocyanate, Hydrogen, Indene, Indium, Iron Pentacarbonyl, Iron Salts, Isophorone Diisocyanate, Mercury, Methane, Methylacrylonitrile, Methyl Bromide, Methyl 2-Cyanoacrylate, Methylcyclopentadienyl, Methyl Demeton, Methyl Mercaptan, Methyl Parathion, Methyl Silicate, Mineral Wool Fiber, MOCA, Naphthalene Diisocyanate, Nicotine, Nitrous Oxide, Parafin Wax Fume, Phenothiazine, Phenylphosphine, Propargyl Alcohol, Propylene Glycol Monomethyl Ether, RDX, Rosin Core Solder Pyrolysis Products, Subtilisins, Sulfur Tetrafluoride, Tin Oxide, Toluene Diisocyanate, Trimethyl Benzene, Tungsten, Vinyl Bromide
Lower PEL: Emery, 2-Ethoxyethanol (Cellosolve), Furfuryl Alcohol, Glass (Fibrous or dust), Isophrone, Isopropyl Ether, Methylcyclohexanol, Methylcyclohexanone, Octane, Pentane, Stoddard Solvent, Organo Mercury and Toluene
Added ceiling value: Acetic Anhydride
Shorter duration level: Carbon Disulfide

2. Bloodborne Pathogens—Needlestick Devices

In response to a Federal standard change, the State has submitted a State standard amendment on needlestick devices comparable to 29 CFR 1910.1030, Occupational Exposure to Bloodborne Pathogens (66 FR 5318, January 18, 2001). The State amendment was adopted September 14, 2001, effective October 18, 2001, under OR-OSHA Administrative Order 10-2001, and is located in Division 2/Z at OAR 437-002-1910.1030. Oregon's standard was previously adopted by reference and contains only two differences added in 2001, both concerning added requirements for medical sharps. The State-initiated rule at OAR 437-002-1030 requires employee involvement in an annual review of safer medical devices, and requires employee training in the use of safer medical devices before they are used. OAR 437-002-1035 requires that any employer who is required to maintain an Exposure Control Plan must maintain a sharps injury log. (Under 29 CFR part 1904 Federal OSHA excludes small employers or those in low-hazard SICs from recordkeeping requirements, including sharps injuries.)

3. Concrete and Masonry Construction

On its own initiative, the State adopted a change to the Concrete and Masonry Construction standard. The State repealed 29 CFR 1926.706(a)(2), (5) and (b) and adopted OAR 437-003-0706 and additional definitions in OAR 437-003-0017 of Division 3/Q. The State amendment was adopted on January 30, 2003, and effective April 30, 2003, under OR-OSHA Administrative Order 1-2003. The State standard was originally approved on December 12, 1989 (54 FR 51089). Major differences from the Federal standard are: (1) The State addresses limited access zones for reinforced and non-reinforced walls separately. For non-reinforced walls the State standard is the same as the Federal. For reinforced walls, the limited access zone for the State standard extends away from the wall a distance equal to the height of the grout pour plus 4 feet. This allows the limited access zone to be extended as the wall gains height. The Federal standard requires the limited access zone to extend away from the wall a distance equal to the height of the wall to be constructed plus 4 feet. (2) The State also requires the additional safeguard of monitoring wind speeds and removing employees when winds exceed 34 mph. (3) The State and Federal standards have the same criteria for when bracing is required. However, where bracing is required, the State requires the employer to have a Registered Professional Engineer design a bracing system or follow the requirements in OAR 437-003-0706(4). The Federal standard requires walls to be adequately braced. (4) Additional definitions were adopted in OAR 437-003-0017.

4. Construction/Electrical

On its own initiative, the State adopted a new rule, OAR 437-003-0404, Branch circuits for ground-fault circuit interrupters (GFCI), in Division 3/K, Construction/Electrical, to replace 29 CFR 1926.404(b)(1). The State standard is patterned after the 2002 edition of the National Electrical Code section 527.6. The State standard was adopted on May 30, 2002, and effective August 5, 2002, under OR-OSHA Administrative Order 5-2002. The State standard does not contain the two exceptions allowed in the Federal standard addressing portable and vehicle mounted generators and work in fixed industrial establishments.

5. Control of Hazardous Energy (Lockout/Tagout)

On its own initiative the State adopted a change to its Control of Hazardous Energy (Lockout/Tagout) standard at OAR 437-002-1910.147 in Division 2/J. The new State-initiated rule at OAR 437-002-0154, Individual Locks, adds a requirement for the user (authorized employee) to have the only key or the only combination to each lock. Oregon's Control of Hazardous Energy standard was previously adopted by reference (except for a broader scope) and approved on April 26, 1991 (56 FR 19383). The State amendment was adopted and effective October 26, 2001, under OR-OSHA Administrative Order 12-2001. Oregon's standard covers all employers, while the federal standard (29 CFR 1910.147) exempts construction, agriculture and maritime employment.

6. Dipping and Coating Operations

On its own initiative, the State repealed OAR 437-002-1910.124(g)(2) in Division 2/H on Dipping and Coating Operations and replaced it with a note directing the reader to OAR 437-002-0161(5), on emergency eyewash and shower facilities, in Division 2/K, Medical and First Aid. The State amendment was adopted and effective on May 30, 2002, under OR-OSHA Administrative Order 4-2002. The original State standard was identical to the OSHA standard. The State now has additional and more specific requirements for emergency eyewash and shower facilities, i.e., the location requirements for the equipment; the requirement to follow the manufacturer's instructions for installation and the manufacturer's criteria for water pressure, flow rate and testing; and allowing an alternative eyewash solution with the support of a physician board-certified in ophthalmology, toxicology or occupational medicine.

7. Electric Power Generation, Transmission and Distribution—Brush Chipping

On its own initiative, the State adopted a change to the Brush Chipping requirements contained in the Electric Power Generation, Transmission and Distribution standards for General Industry (OAR 437 Division 2/R) and for Construction (OAR 437 Division 3/V), comparable to 29 CFR 1910.269 and 1926.950. To promote consistency in Oregon OSHA's requirements, the State consolidated the various rules from each division into one rule that applies to all employees operating chippers. The General Industry standard at OAR 437-002-1910.269(r)(2) was repealed and OAR 437-002-0310(6) (located in Tree and Shrub Services and referenced under Electric Power Generation) was adopted; and in Construction, OAR 437-003-0660 and 437-003-0730 through 0765 were repealed and OAR 437-003-0707 was adopted. The State brush chipping standard has additional requirements not contained in the OSHA standards, such as strength requirements for the knife guards, having a coworker in the immediate vicinity when feeding the chipper, and chipper feeding requirements. The State standard was previously approved on August 25, 2000 (65 FR 51855). The State amendments were adopted and effective April 6, 2001, under OR-OSHA Administrative Order 5-2001.

8. Material Handling Equipment—Personnel Platforms

The State has adopted a State-initiated rule for Personnel Platforms at OAR 437-003-0094 amending Oregon's adoption by reference in Division 3/O of the Material Handling Equipment standards at 29 CFR 1926.602. Oregon's standard was previously approved by OSHA on July 17, 1987 (52 FR 27077). The new rule adds equipment and operator requirements for personnel platforms on lift trucks when there are no controls at the platform. It was adopted and effective May 26, 1999, under Administrative Order 6-1999.

9. Material Handling and Storage—Slings

On its own initiative, the State has adopted a change related to Slings in Division 2/N, Material Handling and Storage, comparable to 29 CFR 1910.184. This amendment revises the chain sling requirement at OAR 437-002-0235 to allow other types of chains for lifting in processes where the use of alloy chains is more hazardous. Oregon's Material Handling and Storage standard was previously approved on August 25, 2000 (65 FR 51857). The State amendment was adopted and effective on October 26, 2001, under OR-OSHA Administrative Order 12-2001.

10. Medical Services and First Aid

On its own initiative, the State has adopted amendments at OAR 437-022-0161 (in Division 2/K) comparable to 29 CFR 1910.151, Medical Services and First Aid. Oregon's standard was previously approved on March 16, 1976 (41 FR 11087). The current amendments were adopted and effective February 3, 1993, and January 28, 2000, under Administrative Orders 2-1993 and 1-2000. Differences include changed definitions, a requirement for employers to determine the first aid supplies required at the workplace based upon the intended use and types of injuries that may occur, clearer criteria for eyewash and showers, alternate eye treatment when approved by a specified physician, and a requirement to follow information on the Material Safety Data Sheets or the manufacturer's direction for treating contamination of the eye or body.

11. Ornamental Tree and Shrub Services

In response to Federal comments, the State has submitted changes to its independent Ornamental Tree and Shrub Services standard in Division 2/R at OAR 437-002-0301, adopted and effective February 16, 1996, under OR-OSHA Administrative Order 1-1996. The State's new Tree and Shrub Services standard had been adopted December 21, 1990 and effective February 1, 1991, under Administrative Order 27-1990. It excludes agricultural crops and crop services, but includes line clearance and telecommunication line clearance activities contained in 29 CFR 1910.268(q).

12. Personal Protective Equipment

a. On its own initiative the State has adopted a standard for High Visibility Garments. The State's submittal adds OAR 437-002-0128 to requirements in Division 2/I, General Industry Personal Protective Equipment, and adds OAR 437-003-0128 to Division 3/C, Construction. The State standard was adopted November 7, 2000 and effective April 1, 2001, under OR-OSHA Administrative Order 10-2000. OSHA does not have a similar standard in the 29 CFR 1910 General Industry standards and the OSHA construction standard at 29 CFR 1926.201(a)(4) only applies to flaggers, whereas the State standard applies to any employee exposed to hazards caused by moving vehicles.

b. On its own initiative, the State has adopted a change to its General Industry and Agriculture personal protective equipment requirements when working on or over water. OSHA does not have a similar standard for General Industry or Agriculture. The new General Industry amendment in Division 2/I at OAR 437-002-0139 and 1139 reflects current practices and technology, and the Agriculture amendment in Division 4/I at OAR 437-004-1070 and 1075 restores and updates standards that were erroneously left out during a previous rewrite of the standard. Both require persons working on or over water to wear personal flotation devices. The State amendments were adopted January 18, 2001, and effective March 1, 2001, under OR-OSHA Administrative Order 1-2001.

c. The State also adopted a change in Division 2/I that added notes clarifying the application of the hazard assessment and training requirements, and added a requirement at OAR 437-002-0137(3) for leg protection when using chain saws. OSHA does not have a similar standard for General Industry. The State amendments were adopted and effective on October 26, 2001, under OR-OSHA Administrative Order 12-2001. Oregon's Personal Protective Equipment standard was previously approved on July 31, 1995 (60 FR 36009).

13. Portable and Fixed Ladders

On its own initiative, the State has repealed its standard for extension ladders, portable wood and metal ladders, and fixed ladders comparable to 29 CFR 1910.25—1910.26, and adopted new standards in Division 2/D at OAR 437-002-0026, Portable Ladders, and OAR 437-002-0027, Fixed Ladders. The State's repeal and adoption were effective September 10, 1999, under OR-OSHA Administrative Order 10-1999. Differences from the Federal standard include: The standards were re-written in clearer language and added coverage of reinforced plastic ladders to the portable ladders provisions. Detailed language on the design and construction of ladders was replaced with the requirement that the ladders meet the respective ANSI standard. Basic use and care requirements are grouped by type of ladder rather than the material from which it is made. Fixed ladder requirements were changed to meet the newest edition of ANSI for fixed ladders (A 14.3-1992), which changes the requirements for landing platforms, cages and climbing safety devices.

14. Powered Industrial Trucks

On its own initiative, the State has adopted a re-codification and amendment of the State standard for Powered Industrial Trucks, OAR 437-02-1910.178 (in Division 2/N), adopted August 20, 1993, and effective November 1, 1993, under Administrative Order 13-1993. The State repealed OAR 437-63, Powered Industrial Trucks, in its entirety, and adopted by reference the Federal standard at 29 CFR 1910.178, except for 1910.178(e)(1), Safety Guards on High Lift Rider Trucks. This section was replaced with previously approved OAR 437-63-260(1), which was also amended and re-codified as OAR 437-002-227(1)(a), (b), and (c). Instead of adopting OSHA's requirement for an overhead guard on high lift rider trucks to be manufactured in accordance with a 1969 ANSI standard, Oregon's standard contains specific requirements for these guards.

15. Pulp, Paper and Paperboard Mills

On its own initiative, the State has adopted standard amendments at OAR 437-002-312 (in Division 2/R) comparable to 29 CFR 1910.261, Pulp, Paper and Paperboard Mills. Oregon's original standard received OSHA approval (42 FR 38026) on July 26, 1977, and was re-codified and approved (52 FR 27077) on July 17, 1987. The current amendments were adopted on November 4, 1994 (effective January 3, 1995), and January 14, 2001 (effective February 5, 2001), under OR-OSHA Administrative Orders 7-1994 and 2-2001. The 2001 change was a corrective amendment that made one provision identical to the Federal: Oregon removed one paragraph, at OAR 437-002-0312(4)(j)(C), which makes the State's requirement at OAR 437-002-312(4)(j) concerning worker entry into chip and sawdust bins identical to 29 CFR 1910.261(c)(9). The standard contains additional requirements previously approved by OSHA concerning employee training, blow lines, exhaust systems for chlorine and chlorine dioxide, and handling sodium chlorate. Differences from the Federal standard effective since 1995 are: the State requires employers to follow 1910.147, Control of Hazardous Energy; updates the referenced ANSI standards to the most recent editions; and adds some ANSI standards not contained in the Federal standard. The most recent ANSI standards reflect more current industry practices.

16. Signs, Signals and Barricades

In response to a Federal standard change, the State submitted a State standard amendment comparable to 29 CFR 1926.200, .201 and .202, Accident Prevention Signs and Tags, Signaling and Barricades, as published in the Federal Register on September 12, 2002 (67 FR 57736). The State did not adopt the Federal provisions at 1926.200(g)(2), Traffic Signs, 1926.201, Signaling, and 1926.202, Barricades, and instead amended its Division 3/G, OAR 437-003-0420, Traffic Control construction standard, which includes rules for signaling and the use of flaggers and for using barricades for protection of workers. The State also revised Division 2/N, General Industry rules for Commercial and Industrial Vehicles standard, OAR 437-002-0223(23), Warning Devices, to reflect the same updated language requiring adequate and appropriate traffic controls as found in the Construction standard. The State amendments were adopted and effective on January 30, 2003, under OR-OSHA Administrative Order 2-2003. Differences are: The State has adopted the same rules for general industry, while the Federal standard lacks a companion rule for general industry. The State requires conformance with the Millenium Edition, December 2000, of the Manual of Uniform Traffic Control Devices (MUTCD) while Federal OSHA also allows the option of complying with the September 3, 1993, revision of the 1988 MUTCD.

17. Spray Finishing

On its own initiative, the State submitted changes to its Spray Finishing standard. The State removed OAR 437-002-1910.94(c) and OAR 437-002-1910.107 on spray finishing and replaced them with OAR 437-002-0107, Spray Finishing, in Division 2/H. The purpose of the change was to consolidate the two rules in one place and make the rules easier to understand. The amendment was adopted and effective on April 21, 2003, under OR-OSHA Administrative Order 3-2003. The State standards at 1910.94(c) and 1910.107 had previously been adopted by reference with additional State requirements and approved on August 25, 2000 (65 FR 51857). OSHA has determined the following differences between the State and Federal standards: The State standard combines the requirements for spraying flammable or combustible materials and materials that are not flammable or combustible into one standard. The State also has kept some of its previously approved rules that were not part of the Federal standard. Language was also added that allows for alternatives to certain requirements when written authorization is obtained from the local fire authority. The State has additional definitions such as “infrequent and of short duration”, “non-combustible materials” and “overspray”. The State standard requires all employees engaged in spray finishing operations to be provided with and wear respiratory protection unless exhaust ventilation is provided and reduces employee exposure to any material or finish or its solvent to below the PEL. The State standard considers spray booths constructed in accordance with the Oregon Building Codes Division to be in compliance with the standards. The State adopted the more current consensus industry standards such as requiring a 4½-inch metal deflector on the upper outer edge of the spray booth, which is the current requirement in the Uniform Fire Code, rather than the 2½-inch deflector required by OSHA. The standard was also written in language that is easier to understand.

18. Telecommunications

In response to Federal comments, the State has submitted changes to its Telecommunications standard in Division 2/R comparable to 29 CFR 1910.168, adopted and effective April 30, 1999, under OR-OSHA Administrative Order 3-1999. The State had previously adopted by reference on August 4, 1993, effective October 1, 1993 (Administrative Order 11-1993), most of 29 CFR 1910.268, Telecommunications. An Oregon-initiated rule at OAR 437-002-0316 covered seven Telecommunications provisions not adopted, as well as some additional State requirements. In response to Federal comments, the State adopted by reference two of the federal Telecommunications provisions, concerning rubber insulating equipment and tree trimming electrical hazards, that were not adopted in 1993, and repealed a provision and Note in OAR 437-002-0316 concerning tree trimming electrical hazards. Current differences are: The general Medical Services and First Aid requirements contained in OAR 437-002-0161 are referenced rather than adopting the specific requirements contained in 1910.268(b)(3); the employer must make a complete evaluation of the work location before work is performed; all equipment, tools and safety devices must be installed, used and operated in accordance with the manufacturer's recommendations and operating instructions; safety straps must be lashed around the top rung of ladders when ladder hooks are used; there are standards for use of chain saws; employees operating cranes and derricks must be trained in accordance with OAR 437-002-0229(2); there are standards addressing fiber optic/light wave transmission; and additional definitions.

II. Decision

After review, OSHA has determined that the State standards amendments for Air Contaminants; BloodbornePathogens—Needlestick Devices; Concrete and Masonry Construction; Construction/Electrical; Control of Hazardous Energy (Lockout/Tagout); Dipping and Coating Operations; Electric Power Generation, Transmission and Distribution—Brush Chipping; Material Handling Equipment—Personnel Platforms; Material Handling and Storage—Slings; Medical Services and First Aid; Ornamental Tree and Shrub Services; Personal Protective Equipment; Portable and Fixed Ladders; Powered Industrial Trucks; Pulp, Paper and Paperboard Mills; Signs, Signals and Barricades; Spray Finishing; and Telecommunications are at least as effective as the comparable Federal standards and/or compliance policies, as required by section 18(c)(2) of the Act and 29 CFR 1902.3(c) and 1953.5(a). OSHA has received no comments, complaints or concerns about these different State standards either as to their effectiveness in comparison to the Federal standards or as to their conformance with the product clause requirements of section 18(c)(2) of the Act. (A different State standard applicable to a product which is distributed or used in interstate commerce must be required by compelling local conditions and not unduly burden interstate commerce.)

OSHA, therefore, approves these standards; however, the right to reconsider this approval is reserved should substantial objections be submitted to the Assistant Secretary.

III. Location of Basic State Plan Documentation

Copies of basic State plan documentation are maintained at the following locations; specific documents are available upon request, including a copy of these State standards and comparison to the Federal standards. Contact the Office of the Regional Administrator, Occupational Safety and Health Administration, 1111 Third Avenue, Suite 715, Seattle, Washington 98101-3212, (206) 553-5930, fax (206) 553-6499; Oregon Occupational Safety and Health Division, Department of Consumer and Business Services, Salem, Oregon 97310, (503) 378-3272, fax (503) 947-7461; and the Office of State Programs, Occupational Safety and Health Administration, 200 Constitution Avenue, NW., Room N3700, Washington, DC 20210, (202) 693-2244, fax (202) 693-1671. Oregon's current standards are posted on the State's Web site at www.cbs.state.or.us/external/osha/standards/standards.htm. An electronic copy of this Federal Register notice is available on OSHA's Web site, www.osha.gov.

IV. Public Participation

Under 29 CFR 1953.3(e), the Assistant Secretary may prescribe alternative procedures to expedite the review process or for other good cause which may be consistent with applicable laws. The Assistant Secretary finds that good cause exists for not publishing the supplement to the Oregon State Plan as a proposed change and making the Regional Administrator's approval effective upon publication for the following reasons:

1. The standard amendments are as effective as the Federal standards which were promulgated in accordance with Federal law, including meeting requirements for public participation.

2. The standard amendments were adopted in accordance with the procedural requirements of State law and further opportunity for public comment is unnecessary in light of the non-controversial nature of the standards.

This notice is issued pursuant to section 18 of the Occupational Safety and Health Act of 1970, Pub. L. 91-596, 84 Stat. 6108 (29 U.S.C. 667).

Signed in Seattle, Washington, this 28th day of January, 2004.
Richard S. Terrill,
Regional Administrator.

[FR Doc. 04-4450 Filed 2-27-04; 8:45 am]

BILLING CODE 4510-26-P